DEPARTMENT OF AGRICULTURE

Office of Advocacy and Outreach (OAO)

Advisory Committee on Minority Farmers; Notice of Solicitation for Membership

AGENCY: Office of Advocacy and Outreach, USDA.

ACTION: Notice of Solicitation for Membership.

SUMMARY: Pursuant to the Federal Advisory Committee Act, notice is hereby given that the Secretary of Agriculture is soliciting nominations for membership for the Advisory Committee on Minority Farmers (the “Committee”) to serve a term of up to 2 years.

DATES: Consideration will be given to nominations received on or before March 31, 2017.

FOR FURTHER INFORMATION CONTACT: Mrs. Kenya Nicholas, Designated Federal Official, USDA Office of Advocacy and Outreach, 1400 Independence Avenue SW., Washington, DC 20250-0170; (202) 720-6350; email: acmf@osec.usda.gov.

ADDRESSES: Nomination packages may be sent by postal mail or commercial delivery to: Office of the Secretary, U.S. Department of Agriculture, 1400 Independence Avenue SW., Mail Stop 0601, Washington, DC 20250, Attn: Advisory Committee on Minority Farmers. Nomination packages may also be faxed to (202) 720-7704.

SUPPLEMENTARY INFORMATION: The Advisory Committee for Minority Farmers (ACMF) will advise the Secretary of Agriculture on strategies to heighten participation of historically socially disadvantaged farmers and ranchers in the USDA's assistance programs. The ACMF will also advise the Secretary on outreach and administration of competitive grants programs and how the USDA may enhance its efforts to build an inclusive future for this targeted group of minority farmers. The ACMF may also look at the civil rights activities of USDA and how they affect USDA programs in general.

We are soliciting nominations from socially disadvantaged farming and ranching producers; civil rights professionals; private nonprofit organizations that support socially disadvantaged producers; and higher education institutions that work with socially disadvantaged producers. The membership term shall not exceed 2 years from the date of appointment. The Secretary may also appoint others as deemed necessary and appropriate to fulfill the ACMF charter.

An organization may nominate individuals from within or outside its membership; alternatively, an individual may nominate herself or himself. Current members may likewise apply for reappointment. Nomination packages should include a nomination form along with a cover letter or resume that documents the nominee's background and experience. Nomination forms are available on the Internet at: http://www.ocio.usda.gov/forms/doc/AD-755.pdf. The Secretary will select up to 20 members to obtain the broadest possible representation on the Committee, in accordance with the Federal Advisory Committee Act (5 U.S.C. App.2) and U.S. Department of Agriculture (USDA) Regulation 1041-1. Equal opportunity practices, in line with the USDA policies, will be followed in all appointments to the Committee. To ensure that the recommendations of the Committee have taken into account the needs of the diverse groups served by the Department, membership should include, to the extent practicable, individuals with demonstrated ability to represent minorities, women, and persons with disabilities.

Office | Initials & date | Office | Initials & date

Signed in Washington, DC, this 1 day of March 2017.
Christian Obineme,
Associate Director, Office of Advocacy and Outreach.

[FR Doc. 2017-04395 Filed 3-6-17; 8:45 am]

BILLING CODE P